DEPARTMENT OF HOUSING AND URBAN DEVELOPMENT

[Docket No. FR-4910-N-04]

Notice of Proposed Information Collection for Public Comment for the Comprehensive Improvement Assistance Program (CIAP); Budget/Progress Report, Actual Modernization Cost Certificate

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: April 26, 2004.

ADDRESSES: Interested persons are invited to submit comments regarding this proposal. Comments should refer to the proposal by name and/or OMB Control number and should be sent to: Sherry F. McCown, Acting Reports Liaison Officer, Public and Indian Housing, Department of Housing and Urban Development, 451 7th Street, SW., Room 4116, Washington, DC 20410-5000.

FOR FURTHER INFORMATION CONTACT: Sherry F. McCown, (202) 708-0614, extension 7651. (This is not a toll-free number).

SUPPLEMENTARY INFORMATION: The Department will submit the proposed information collection to OMB for review, as required by the Paperwork Reduction Act of 1995 (44 U.S.C. Chapter 35, as amended).

Public Housing Agencies (PHAs) will continue to submit to HUD Form HUD-52825, CIAP Budget, and Form HUD-53001, Actual Modernization Cost Certificate (AMCC) under terms of the grant. The HUD-52825 covers all developments being funded in the modernization program for the current FFY. The HUD-52825 is the controlling document during implementation in terms of HUD-approved work items and costs. The HUD-52825 is a combined Budget/Progress Report. The HUD-53001 is required for fiscal closeout of a completed or terminated program. The PHA submits the AMCC to HUD when all funds have been expended and all contractor liens have been released.

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Comprehensive Improvement Assistance Program (CIAP); Budget/Progress Report, Actual Modernization Cost Certificate.

OMB Control Number: 2577-0044.

Description of the need for the information and proposed use: When requested by HUD, grantees must prepare the CIAP Budget for the modernization program, describing the activities which are planned to be undertaken with CIAP funds. On an as-needed basis, grantees can submit a revised CIAP Budget when prior HUD approval is required to revise the Budget. Grantees prepare and submit the Progress Report until all funds are expended. Grantees prepare and submit the Actual Modernization Cost Certificate (AMCC) for each terminated or completed modernization program under CIAP. The CIAP Budget and Progress Report are the controlling documents during implementation, in terms of HUD-approved work items and costs.

Agency form numbers, if applicable: HUD-52825; HUD-53001.

Members of affected public: Local, State, or Tribal Governments, and Not-for-profit institutions.

Estimation of the total number of hours needed to prepare the information collection including number of respondents, frequency of response, and hours of response: 1,000 respondents (grantees); HUD-52825, one response per year; eight hours per response; 8,000 hours reporting; HUD-53001, one response per year; two hours per response, 2,000 hours reporting; 10,000 hours total reporting burden.

Status of the proposed information collection: Extension.

Authority: Section 3506 of the Paperwork Reduction Act of 1995, 44 U.S.C. Chapter 35, as amended.

Dated: February 18, 2004.
Michael Liu,
Assistant Secretary for Public and Indian Housing.

[FR Doc. 04-3912 Filed 2-23-04; 8:45 am]

BILLING CODE 4210-33-P